SECURITIES AND EXCHANGE COMMISSION

[OMB Control No. 3235-0082]

Submission for OMB Review; Comment Request; Extension: Form 11-K

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection of information discussed below.

Form 11-K (17 CFR 249.311) is the annual report designed for use by employee stock purchase, savings, and similar plans to comply with the reporting requirements under Section 15(d) of the Securities and Exchange Act of 1934 (the “Exchange Act”) (15 U.S.C. 78o(d)). Section 15(d) establishes a periodic reporting obligation for every issuer of a class of securities registered under the Securities Act of 1933 (the “Securities Act”) (15 U.S.C. 77a et seq.). Form 11-K provides employees of an issuer with financial information so that they can assess the performance of the investment vehicle or stock plan. We estimate that Form 11-K requires approximately internal 95.81 burden hours per response and that there is an average of approximately 941 Form 11-K filings annually for a total of 90,157 internal burden hours annually (95.81 hours per response × 941 responses). We also estimate that Form 11-K requires a cost of approximately $7,525 per response for a total annual cost burden of $7,081,025 ($7,525 per response × 941 responses).

An agency may not conduct or sponsor, and a person is not required to respond to, a collection of information unless it displays a currently valid OMB control number.

The public may view and comment on this information collection request at: https://www.reginfo.gov/public/do/PRAViewICR?ref_nbr=202501-3235-001 or send an email comment to MBX.OMB.OIRA.SEC_desk_officer@omb.eop.gov within 30 days of the day after publication of this notice by April 21, 2025.

Dated: March 17, 2025.
Sherry R. Haywood,
Assistant Secretary.

[FR Doc. 2025-04766 Filed 3-19-25; 8:45 am]

BILLING CODE 8011-01-P